DEPARTMENT OF AGRICULTURE

Animal and Plant Health Inspection Service

[Docket No. APHIS-2018-0049]

Notice of Request for Revision to and Extension of Approval of an Information Collection; Emergency Management Response System

ACTION: Revision to and extension of approval of an information collection; comment request.

SUMMARY: In accordance with the Paperwork Reduction Act of 1995, this notice announces the Animal and Plant Health Inspection Service's intention to request a revision to and extension of approval of an information collection associated with the Emergency Management Response System.

DATES: We will consider all comments that we receive on or before September 25, 2018.

ADDRESSES: You may submit comments by either of the following methods:

• Federal eRulemaking Portal: Go to http://www.regulations.gov/#!docketDetail;D=APHIS-2018-0049.

• Postal Mail/Commercial Delivery: Send your comment to Docket No. APHIS-2018-0049, Regulatory Analysis and Development, PPD, APHIS, Station 3A-03.8, 4700 River Road Unit 118, Riverdale, MD 20737-1238.

Supporting documents and any comments we receive on this docket may be viewed at http://www.regulations.gov/#!docketDetail;D=APHIS-2018-0049 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Emergency Management Response System, contact Dr. Fred Bourgeois, EMRS National Coordinator, PIC, NPIC, VS, APHIS, 4700 River Road Unit 41, Riverdale, MD 20737; (318) 288-4083. For more detailed information on the information collection, contact Ms. Kimberly Hardy, APHIS' Information Collection Coordinator, at (301) 851-2483.

SUPPLEMENTARY INFORMATION:

Title: Emergency Management Response System.

OMB Control Number: 0579-0071.

Type of Request: Revision to and extension of approval of an information collection.

Abstract: Under the Animal Health Protection Act (7 U.S.C. 8301 et seq.), the Animal and Plant Health Inspection Service (APHIS) of the U.S. Department of Agriculture is authorized, among other things, to protect the health of U.S. livestock and poultry populations by preventing the introduction and interstate spread of serious diseases and pests of livestock and by eradicating such diseases from the United States when feasible.

The Emergency Management Response System (EMRS), which is a web-based system, helps APHIS manage and investigate potential incidents of foreign animal diseases in the United States. When a potential foreign animal disease incident is reported, APHIS or State animal health officials dispatch a foreign animal disease veterinary diagnostician to the premises of the reported incident to conduct an investigation. The diagnostician obtains vital epidemiologic data by conducting field investigations, including sample collection, and by interviewing the owner or manager of the premises being investigated. These important data, which are submitted electronically by the diagnostician into EMRS, include such items as the purpose of the diagnostician's visit and suspected disease, type of operation on the premises, the number and type of animals on the premises, the number of sick or dead animals on the premises, the results of physical examinations of affected animals and necropsy examinations, vaccination information on the animals in the herd or flock, biosecurity practices at the site, whether any animals were recently moved out of the herd or flock, whether any new animals were recently introduced into the herd or flock, the number and kinds of test samples taken, and detailed geographic data concerning the premises location. EMRS allows these epidemiological and diagnostic data to be documented and transmitted more efficiently.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1 hour per response.

Respondents: Owners or operators of livestock and poultry facilities and State animal health officials.

Estimated annual number of respondents: 136.

Estimated annual number of responses per respondent: 12.

Estimated annual number of responses: 1,632.

Estimated total annual burden on respondents: 1,632 hours. (Due to averaging, the total annual burden hours may not equal the product of the annual number of responses multiplied by the reporting burden per response.)

All responses to this notice will be summarized and included in the request for OMB approval. All comments will also become a matter of public record.

Done in Washington, DC, this 25th day of July 2018.
Kevin Shea,
Administrator, Animal and Plant Health Inspection Service.

[FR Doc. 2018-16213 Filed 7-26-18; 8:45 am]

BILLING CODE 3410-34-P